SECURITIES AND EXCHANGE COMMISSION

Sunshine Act Meetings

Notice is hereby given, pursuant to the provisions of the Government in the Sunshine Act, Pub. L. 94-409, that the Securities and Exchange Commission will hold the following meetings during the week of June 2, 2003: Closed Meetings will be held on Tuesday, June 3, 2003 at 2 p.m., June 4, 2003 at 11 a.m., and on Thursday, June 5, 2003 at 10 a.m., and an Open Meeting will be held on Wednesday, June 4, 2003 at 10 a.m., in Room 1C30, the William O. Douglas Room.

Commissioner Glassman, as duty officer, determined that no earlier notice thereof was possible.

Commissioners, Counsel to the Commissioners, the Secretary to the Commission, and recording secretaries will attend the Closed Meetings. Certain staff members who have an interest in the matters may also be present.

The General Counsel of the Commission, or his designee, has certified that, in his opinion, one or more of the exemptions set forth in 5 U.S.C. 552b(c) (4), (5), (7), (8), (9)(B) and (10) and 17 CFR 200.402(a) (4), (5), (7), (8), (9)(ii) and (10), permit consideration of the scheduled matters at the Closed Meetings.

The subject matter of the Closed Meeting scheduled for Tuesday, June 3, 2003 will be: Institution and settlement of administrative proceedings of an enforcement nature; Institution and settlement of injunctive actions; and Formal orders of investigation.

The subject matter of the Open Meeting scheduled for Wednesday, June 4, 2003 will be:

The Commission will hear oral argument on an appeal by Feeley & Willcox Asset Management Corp. (“FWAM”) and Michael J. Feeley from the decision of an administrative law judge. During the period covered by this Commission proceeding, Feeley was an associated person of FWAM, a registered investment adviser. The Commission subsequently cancelled FWAM's registration independently of this matter.

FWAM & Feeley have appealed the law judge's findings that (1) FWAM and Feeley engaged in fraud in the sale of securities to public customers, in violation of Section 17(a) of the Securities Act of 1933, Section 10(b) of the Securities Exchange Act of 1934, and Exchange Act Rule 10b-5 promulgated thereunder, and (2) FWAM committed fraud in the sales of securities to investment advisory clients and violated its fiduciary duty to these clients by failing to disclose conflicts of interest, in violation of Sections 206(1) and 206(2) of the Investment Advisers Act of 1940, and Feeley aided and abetted and was a cause of those violations. Based on these findings of violation, and additional violations that respondents have not appealed, the law judge barred Feeley from association with a broker or dealer or investment adviser with a right to reapply after two years in a non-supervisory, non-proprietary capacity; ordered Feeley to cease and desist from committing or causing any violations or any future violations of the antifraud provisions of the Securities Act and the Exchange Act; ordered Feeley to cease and desist from aiding and abetting and causing any violations or any future violations of the antifraud provisions or specified reporting and recordkeeping provisions of the Advisers Act; ordered FWAM and Feeley jointly and severally to disgorge $95,000 plus prejudgment interest; and ordered FWAM and Feeley to pay civil money penalties of $150,000 and $15,000 respectively.

Among the issues likely to be argued are:

1. Whether respondents committed the alleged violations; and

2. If respondents committed violations, whether sanctions should be imposed in the public interest.

The subject matter of the Closed Meeting scheduled for Wednesday, June 4, 2003 will be: post-argument Discussion.

The subject matter of the Closed Meeting scheduled for Thursday, June 5, 2003 will be: institution of administrative proceedings of an enforcement nature; and institution and settlement of injunctive actions.

At times, changes in Commission priorities require alterations in the scheduling of meeting items. For further information and to ascertain what, if any, matters have been added, deleted, or postponed, please contact:

The Office of the Secretary at (202) 942-7070.

Dated: May 29, 2003.
Jonathan G. Katz,
Secretary.

[FR Doc. 03-13935 Filed 5-29-03; 3:48 pm]

BILLING CODE 8010-01-P